DEPARTMENT OF EDUCATION

[CFDA No.: 84.133A-6]

Office of Special Education and Rehabilitative Services; National Institute on Disability and Rehabilitation Research-Disability Rehabilitation Research Projects (DRRP) Program; Notice Inviting Applications for Fiscal Year (FY) 2003

Note to Applicants: This notice is a complete application package. Together with the statute authorizing the program and the Education Department General Administrative Regulations (EDGAR), this notice contains all of the information, application forms, and instructions you need to apply for a grant under this competition.

Purpose of the Program: The purpose of the DRRP program is to improve the effectiveness of services authorized under the Rehabilitation Act of 1973 (the Act), as amended. For FY 2003 the competition for new awards focuses on projects designed to meet the priority we describe in the PRIORITY section of this application notice. We intend this priority to improve rehabilitation services and outcomes for individuals with disabilities.

In order to provide applicants with a 60-day application period and to ensure that this grant is awarded before the end of FY 2003, NIDRR is inviting applications based on the proposed priority. NIDRR will publish the final priority as soon as possible after the comment period closes on May 16, 2003.

Depending upon the comments that NIDRR receives, the final priority may include revisions to the proposed priority. It is generally the policy of the Department of Education not to solicit applications before the publication of a final priority. However, in this case, it is essential to solicit applications on the basis of the proposed priority in order to allow applicants sufficient time to prepare applications of appropriate quality to be funded. Applicants are advised to begin to develop their applications based on the proposed priority. If changes are made in the final priority, applicants will be given an opportunity to revise or resubmit their applications.

The notice of proposed priority for collaborative research for Traumatic Brain Injury Model Systems (TBIMS) requires the applicants to collaborate with the current TBIMS grantees. The National Rehabilitation Information Center has the contact information for the TBIMS grantees at http://www.naric.com/search/pd/notice. NIDRR's current TBIMS grantees are: University of Alabama at Birmingham TBIMS; Northern California TBIMS of Care at Santa Clara Valley Medical Center (SCVMC); Rocky Mountain Regional Brain Injury System (RMRBIS) at Craig Hospital; Spaulding/Partners TBIMS at Harvard Medical School; Southeastern Michigan TBI System (SEMTBIS) at Wayne State University; Mayo Clinic TBIMS; TBIMS of Mississippi (TBIMSM) at Methodist Rehabilitation Center; JFK-Johnson Rehabilitation Institute TBIMS; New York TBIMS (NYTBIMS) at Mount Sinai School of Medicine; Carolinas TBI Rehabilitation and Research System (CTBIRRS) at Charlotte Mecklenburg Hospital Authority; Ohio Regional TBIMS at Ohio State University; Moss TBIMS at Albert Einstein Healthcare Network; University of Pittsburgh Brain Injury Model System (UPBI); North Texas TBIMS (NT-TBIMS) at University of Texas Southwestern Medical Center; TBIMS at Virginia Commonwealth University; and University of Washington TBIMS.

Eligible Applicants: Parties eligible to apply for grants under this program are States; public or private agencies, including for-profit agencies; public or private organizations, including for-profit organizations; institutions of higher education; and Indian tribes and tribal organizations.

Applications Available: May 14, 2003.

Deadline for Transmittal of Applications: July 14, 2003.

Estimated Number of Awards: 2-3.

Note: The Department is not bound by any estimates in this notice.

Maximum Award Amount: $600,000.

Note: We will reject without consideration or evaluation any application that proposes a budget exceeding the stated maximum award amount in any year (See 34 CFR 75.104(b)).

Page Limit: The Secretary strongly recommends the following:

(1) A one-page abstract;

(2) An Application Narrative (i.e., Part III that addresses selection criteria that will be used by reviewers in evaluating individual proposals) of no more 75 numbered, double-spaced (no more than 3 lines per vertical inch) 8.5″ x 11″ pages (on one side only) with one inch margins (top, bottom, and sides). The application narrative page limit recommendation does not apply to: Part I—the electronically scanable form; Part II—the budget section (including the narrative budget justification); and Part IV—the assurances and certifications; and

(3) A font no smaller than a 12-point font and an average character density no greater than 14 characters per inch.

Project Period: Up to 60 months.

Applicable Regulations: (a) The Education Department General Administrative Regulations (EDGAR), 34 CFR parts 74, 75, 77, 80, 81, 82, 85, 86 and 97, and (b) the program regulations 34 CFR part 350.

Priority

Collaborative Research Projects in Traumatic Brain Injury

This competition focuses on a project designed to meet the priority in the notice of proposed priority for this program, published in the Federal Register on April 16, 2003 (68 FR 18601).

For FY 2003, this priority is an absolute priority. Under 34 CFR 75.105 (c)(3) we consider only applications that meet this priority.

Selection Criteria

We use the following selection criteria to evaluate applications under this program.

The maximum score for all of these criteria is 100 points. The maximum score for each criterion is indicated in parentheses.

(a) Responsiveness to an absolute or competitive priority (5 points).

(1) The Secretary considers the responsiveness of the application to an absolute or competitive priority published in the Federal Register.

(2) In determining the application's responsiveness to the absolute or competitive priority, the Secretary considers one or more of the following factors:

(i) The extent to which the applicant's proposed activities are likely to achieve the purposes of the absolute or competitive priority. (5 points)

(b) Design of research activities (40 points).

(1) The Secretary considers the extent to which the design of research activities is likely to be effective in accomplishing the objectives of the project.

(2) In determining the extent to which the design is likely to be effective in accomplishing the objectives of the project, the Secretary considers one or more of the following factors:

(i) The extent to which the research activities constitute a coherent, sustained approach to research in the field, including a substantial addition to the state-of-the art. (10 points)

(ii) The extent to which the methodology of each proposed research activity is meritorious, including consideration of the extent to which—

(A) The proposed design includes a comprehensive and informed review of the current literature, demonstrating knowledge of the state-of-the art; (5 points)

(B) Each research hypothesis is theoretically sound and based on current knowledge; (6 points)

(C) Each sample population is appropriate and of sufficient size; (7 points)

(D) The data collection and measurement techniques are appropriate and likely to be effective; (7 points) and

(E) The data analysis methods are appropriate. (5 points)

(c) Design of dissemination activities (6 points).

(1) The Secretary considers the extent to which the design of dissemination activities is likely to be effective in accomplishing the objectives of the project.

(2) In determining the extent to which the design is likely to be effective in accomplishing the objectives of the project, the Secretary considers one or more of the following factors:

(i) The extent to which the materials to be disseminated are likely to be effective and usable, including consideration of their quality, clarity, variety, and format. (2 points)

(ii) The extent to which the materials and information to be disseminated and the methods for dissemination are appropriate to the target population. (2 points)

(iii) The extent to which the information to be disseminated will be accessible to individuals with disabilities. (2 points)

(d) Plan of operation (10 points).

(1) The Secretary considers the quality of the plan of operation.

(2) In determining the quality of the plan of operation, the Secretary considers the adequacy of the plan of operation to achieve the objectives of the proposed project on time and within budget, including clearly defined responsibilities, and timelines for accomplishing project tasks. (4 points)

(3) In addition, the Secretary also considers whether there is a clearly delineated plan for research management, with focus on quality controls for data collection, management of research protocols, and provisions for oversight at collaborating sites. (6 points)

(e) Collaboration (10 points).

(1) The Secretary considers the quality of collaboration.

(2) In determining the quality of collaboration, the Secretary considers the following factors:

(i) The extent to which the applicant's proposed collaboration with one or more agencies, organizations, or institutions is likely to be effective in achieving the relevant proposed activities of the project. (5 points)

(ii) The extent to which agencies, organizations, or institutions demonstrate a commitment to collaborate with the applicant. (5 points)

(f) Adequacy and reasonableness of the budget (5 points).

(1) The Secretary considers the adequacy and the reasonableness of the budget.

(2) In determining the adequacy and the reasonableness of the proposed budget, the Secretary considers one or more of the following factors:

(i) The extent to which the costs are reasonable in relation to the proposed project activities. (3 points)

(ii) The extent to which the applicant is of sufficient size, scope, and quality to effectively carry out the activities in an efficient manner. (2 points)

(g) Plan of Evaluation (8 points).

(1) The Secretary considers the quality of the plan of evaluation.

(2) In determining the quality of the plan of evaluation, the Secretary considers the extent to which the plan of evaluation provides for periodic assessment of a project's progress that is based on identified performance measures that—

(i) Are clearly related to the intended outcomes of the project and expected impacts on the target population; (4 points) and

(ii) Are objective, and quantifiable or qualitative, as appropriate. (4 points)

(h) Project Staff (6 points).

(1) The Secretary considers the quality of the project staff.

(2) In determining the quality of the project staff, the Secretary considers the extent to which the applicant encourages applications for employment from persons who are members of groups that have traditionally been underrepresented based on race, color, national origin, gender, age, or disability. (2 points)

(3) In addition, the Secretary considers one or more of the following:

(i) The extent to which the key personnel and other key staff have appropriate training and experience in disciplines required to conduct all proposed activities. (2 points)

(ii) The extent to which the commitment of staff time is adequate to accomplish all the proposed activities of the project. (2 points)

(a) Adequacy and accessibility of resources (10 points).

(1) The Secretary considers the adequacy and accessibility of the applicant's resources to implement the proposed project.

(2) In determining the adequacy and accessibility of resources, the Secretary considers one or more of the following factors:

(i) The quality of an applicant's past performance in carrying out a grant. (2 points)

(ii) The extent to which the applicant has appropriate access to clinical populations and organizations representing individuals with disabilities to support advanced clinical rehabilitation research. (6 points)

(iii) The extent to which the facilities, equipment, and other resources are appropriately accessible to individuals with disabilities who may use the facilities, equipment, and other resources of the project. (2 points)

Pre-Application Meeting: Interested parties are invited to participate in a pre-application meeting to discuss the funding priorities and to receive technical assistance through individual consultation and information about the funding priorities. The pre-application meeting will be held on May 28, 2003 either in person or by conference call at the Department of Education, Office of Special Education and Rehabilitative Services, Switzer Building, room 3065, 330 C Street, SW., Washington, DC between 10 a.m. and 12 noon. NIDRR staff will also be available from 1:30 p.m. to 4 p.m. on that same day to provide technical assistance through individual consultation and information about the funding priority. For further information or to make arrangements to attend contact Donna Nangle, Switzer Building, room 3412, 330 C Street, SW., Washington, DC 20202. Telephone (202) 205-5880 or via Internet: donna.nangle@ed.gov.

If you use a telecommunications device for the deaf (TDD), you may call (202) 205-4475.

Assistance to Individuals With Disabilities at the Public Meetings

The meeting site is accessible to individuals with disabilities, and a sign language interpreter will be available. If you will need an auxiliary aid or service other than a sign language interpreter in order to participate in the meeting (e.g., other interpreting service such as oral, cued speech, or tactile interpreter; assistive listening device; or materials in alternate format), notify the contact person listed in this notice at least two weeks before the scheduled meeting date. Although we will attempt to meet a request we receive after this date, we may not be able to make available the requested auxiliary aid or service because of insufficient time to arrange it.

Application Procedures

Note: Some of the procedures in these instructions for transmitting applications differ from those in the Education Department General Administrative Regulations (EDGAR) (34 CFR 75.102). Under the Administrative Procedure Act (5 U.S.C. 553) the Department generally offers interested parties the opportunity to comment on proposed regulations. However, these amendments make procedural changes only and do not establish new substantive policy. Therefore, under 5 U.S.C. 553(b)(A), the Secretary has determined that proposed rulemaking is not required.

Pilot Project for Electronic Submission of Applications

In FY 2003, the U.S. Department of Education is continuing to expand its pilot project for electronic submission of applications to include additional formula grant programs and additional discretionary grant competitions. The Disability Rehabilitation Research Projects (DRRP) Program—CFDA #84.133A is one of the programs included in the pilot project. If you are an applicant under the DRRP, you may submit your application to us in either electronic or paper format.

The pilot project involves the use of the Electronic Grant Application System (e-Application) portion of the Grant Administration and Payment System (GAPS). Users of e-Application will be entering data on-line while completing their applications. You may not e-mail a soft copy of a grant application to us. If you participate in this voluntary pilot project by submitting an application electronically, the data you enter on-line will be saved into a database. We request your participation in e-Application. We shall continue to evaluate its success and solicit suggestions for improvement.

If you participate in e-Application, please note the following:

• Your participation is voluntary.

• You will not receive any additional point value because you submit a grant application in electronic format, nor will we penalize you if you submit an application in paper format. When you enter the e-Application system, you will find information about its hours of operation.

• You may submit all documents electronically, including the Application for Federal Assistance (ED 424), Budget Information—Non-Construction Programs (ED 524), and all necessary assurances and certifications.

• After you electronically submit your application, you will receive an automatic acknowledgement, which will include a PR/Award number (an identifying number unique to your application).

• Within three working days after submitting your electronic application, fax a signed copy of the Application for Federal Assistance (ED 424) to the Application Control Center after following these steps:

(1) Print ED 424 from the e-Application system.

(2) The institution's Authorizing Representative must sign this form.

(3) Place the PR/Award number in the upper right hand corner of the hard copy signature page of the ED 424.

(4) Fax the signed ED 424 to the Application Control Center at (202) 260-1349.

• We may request that you give us original signatures on all other forms at a later date.

• Closing Date Extension in Case of System Unavailability: If you elect to participate in the e-Application pilot for the DRRP and you are prevented from submitting your application on the closing date because the e-Application system is unavailable, we will grant you an extension of one business day in order to transmit your application electronically, by mail, or by hand delivery. For us to grant this extension—

(1) You must be a registered user of e-Application, and have initiated an e-Application for this competition; and

(2)(a) The e-Application system must be unavailable for 60 minutes or more between the hours of 8:30 a.m. and 3:30 p.m., Washington, DC time, on the deadline date; or

(b) The e-Application system must be unavailable for any period of time during the last hour of operation (that is, for any period of time between 3:30 and 4:30 p.m., Washington, DC time) on the deadline date. The Department must acknowledge and confirm these periods of unavailability before granting you an extension. To request this extension you must contact either (1) the person listed elsewhere in this notice under FOR FURTHER INFORMATION CONTACT or (2) the e-GRANTS help desk at 1-888-336-8930.

You may access the electronic grant application for the DRRP at: http://e-grants.ed.gov.

Parity Guidelines Between Paper and Electronic Applications: In FY 2003, the U.S. Department of Education is continuing to expand the pilot project that allows applicants to use an Internet-based electronic system for submitting applications. This competition is among those that have an electronic submission option available to all applicants. The system, called e-Application, allows an applicant to submit a grant application to us electronically, using a current version of the applicant's Internet browser. To see e-Application visit the following address: http://e-grants.ed.gov.

Parity Instructions

Users of e-application, a data driven system, will be entering data on-line while completing their applications. This will be more interactive than just e-mailing a soft copy of a grant application to us. If you participate in this voluntary pilot project by submitting an application electronically, the data you enter on-line will go into a database and ultimately will be accessible in electronic form to our reviewers.

This pilot project continues the Department's transition to an electronic grant award process. In addition to e-Application, the Department plans to expand the number of discretionary programs using the electronic peer review (e-Reader) system and to increase the participation of discretionary programs offering grantees the use of the electronic annual performance reporting (e-Reports) system.

To help ensure parity and a similar look between electronic and paper copies of grant applications, we are asking each applicant that submits a paper application to adhere to the following guidelines:

• Submit your application on 8.5″ by 11″ paper.

• Leave a 1-inch margin on all sides.

• Use consistent font throughout your document. You may also use boldface type, underlining, and italics. However, please do not use colored text.

• Please use black and white, also, for illustrations, including charts, tables, graphs and pictures.

• For the narrative component, your application should consist of the number and text of each selection criterion followed by the narrative. The text of the selection criterion, if included, does not count against any page limitation.

• Place a page number at the bottom right of each page beginning with 1; and number your pages consecutively throughout your document.

Additional Application Procedures

Appendices: Do not attach any appendices if all of your appendices are not in electronic format. Type in the appendices section: “Appendices are being sent separately.” and note the date that they are hand delivered or mailed. Put the PR/award number and the word “Appendices” in the upper right hand corner of each page of the appendices. Send the entire package of appendices to: U.S. Department of Education, Application Control Center, Attention: (CFDA # 84.133A-6)—Appendices, 7th & D Streets, SW., Room 3671, Regional Office Building 3, Washington, DC 20202-4725.

You must clearly label the outside of the envelope with the PR/Award Number and the word “Appendices.” You must submit all hard copy appendices according to the Instructions for Transmitting Applications found elsewhere in this notice.

Instructions for Transmitting Applications

If you want to apply for a grant in paper and be considered for funding, you must meet the following deadline requirements:

(a) If You Send Your Application by Mail

You must mail the original and two copies of the application on or before the deadline date. To help expedite our review of your application, applicants are encouraged to submit an original and seven copies. Mail your application to: U.S. Department of Education, Application Control Center, Attention: (CFDA # 84.133A-6), 7th & D Streets, SW., Room 3671, Regional Office Building 3, Washington, DC 20202-4725.

You must show one of the following as proof of mailing:

(1) A legibly dated U.S. Postal Service postmark.

(2) A legible mail receipt with the date of mailing stamped by the U.S. Postal Service.

(3) A dated shipping label, invoice, or receipt from a commercial carrier.

(4) Any other proof of mailing acceptable to the Secretary.

If you mail an application through the U.S. Postal Service, we do not accept either of the following as proof of mailing:

(1) A private metered postmark.

(2) A mail receipt that is not dated by the U.S. Postal Service.

(b) If You Deliver Your Application by Hand

You or your courier must hand deliver the original and two copies of the application by 4:30 p.m. (Washington, DC time) on or before the deadline date. To help expedite our review of your application, we would appreciate your voluntarily including an additional seven copies of your application. Deliver your application to: U.S. Department of Education, Application Control Center, Attention: (CFDA # 84.133A-6), 7th & D Streets, SW., Room 3671, Regional Office Building 3, Washington, DC 20202-4725.

The Application Control Center accepts application deliveries daily between 8 a.m. and 4:30 p.m. (Washington, DC time), except Saturdays, Sundays, and Federal holidays. The Center accepts application deliveries through the D Street entrance only. A person delivering an application must show identification to enter the building.

(c) If You Submit Your Application Electronically: You must submit your grant application through the Internet using the software provided on the e-Grants Website (http://www.e-grants.ed.gov) by 4:30 p.m. (Washington, DC time) on the deadline date.

The regular hours of operation of the e-Grants Web site are 6 a.m. until 12 midnight (Washington, DC time) Monday-Friday and 6 a.m. until 7 p.m. Saturdays. The system is unavailable on the second Saturday of every month, Sundays, and Federal holidays. Please note that on Wednesdays the Web site is closed for maintenance at 7 p.m. (Washington, DC time).

Notes

(1) The U.S. Postal Service does not uniformly provide a dated postmark. Before relying on this method, you should check with your local post office.

(2) If you send your application by mail or if you or your courier deliver it by hand, the Application Control Center will mail a Grant Application Receipt Acknowledgment to you. If you do not receive the notification of application receipt within 15 days from the date of mailing the application, you should call the U.S. Department of Education Application Control Center at (202) 708-9493.

(3) If your application is late, we will notify you that we will not consider the application.

(4) You must indicate on the envelope and—if not provided by the Department—in Item 4 of the Application for Federal Education Assistance (ED 424 (exp. 11/30/2004)) the CFDA number—and suffix letter, if any—of the competition under which you are submitting your application.

(5) If you submit your application through the Internet via the e-Grants Web site, you will receive an automatic acknowledgment when we receive your application.

Application Forms and Instructions

The Appendix to this notice contains forms and instructions, a statement regarding estimated public reporting burden, and various assurances and certifications. Please organize the parts and additional materials in the following order:

• PART I: Application for Federal Assistance (ED 424 (Exp. 11/30/2004)) and instructions.

• PART II: Budget Form—Non-Construction Programs (ED 524) and instructions and definitions.

• PART III: Application Narrative.

• PART IV: Additional Materials.

• Estimated Public Reporting Burden.

• Assurances—Non-Construction Programs (Standard Form 424B).

• Certification Regarding Lobbying, Debarment, Suspension, and Other Responsibility Matters: and Drug-Free Work-Place Requirements (ED Form 80-0013).

• Certification Regarding Debarment, Suspension, Ineligibility and Voluntary Exclusion: Lower Tier Covered Transactions (ED Form 80-0014) and instructions.

(Note: ED Form GCS-014 is intended for the use of primary participants and should not be transmitted to the Department.)

• Disclosure of Lobbying Activities (Standard Form LLL, if applicable) and instructions; and Disclosure Lobbying Activities Continuation Sheet (Standard Form LLL-A).

• Survey on Ensuring Equal Opportunity for Applicants

An applicant may submit information on a photostatic copy of the application and budget forms, the assurances, and the certifications. However, the application form, the assurances, and the certifications must each have an original signature. No grant may be awarded unless a completed application form has been received.

FOR FURTHER INFORMATION CONTACT: Donna Nangle, U.S. Department of Education, 400 Maryland Avenue, SW., room 3412, Switzer Building, Washington, DC 20202-2645. Telephone: (202) 205-5880 or via Internet: Donna.Nangle@ed.gov.

If you use a telecommunications device for the deaf (TDD), you may call the TDD number at (202) 205-4475.

Individuals with disabilities may obtain this document in an alternative format (e.g., Braille, large print, audiotape, or computer diskette) on request to the contact person listed under FOR FURTHER INFORMATION CONTACT.

Electronic Access to This Document

You may review this document, as well as all other Department of Education documents published in the Federal Register, in text or Adobe Portable Document Format (PDF) on the Internet at the following site: http://www.ed.gov/legislation/FedRegister.

To use PDF you must have Adobe Acrobat Reader, which is available free at this site. If you have questions about using PDF, call the U.S. Government Printing Office (GPO), toll free, at 1-888-293-6498; or in the Washington, DC area at (202) 512-1530.

Note: The official version of this document is the document published in the Federal Register. Free Internet access to the official edition of the Federal Register and the Code of Federal Regulations is available on GPO Access at: http://www.access.gpo.gov/nara/index.html.

Program authority: 29 U.S.C. 762(g) and 764(a).

Dated: May 9, 2003.
Loretta Petty Chittum,
Acting Assistant Secretary for Special Education and Rehabilitative Services.

Appendix—Instructions for Estimated Public Reporting Burden

According to the Paperwork Reduction Act of 1995, you are not required to respond to a collection of information unless it displays a valid OMB control number. The valid OMB control number for this collection of information is 1820-0027. Expiration date: 11/20/2003. We estimate the time required to complete this collection of information to average 30 hours per response, including the time to review instructions, search existing data sources, gather the data needed, and complete and review the collection of information. If you have any comments concerning the accuracy of the time estimate or suggestions for improving this form, please write to: U.S. Department of Education, Washington, DC 20202-4651. If you have comments or concerns regarding the status of your submission of this form, write directly to: Donna Nangle, U.S. Department of Education, 400 Maryland Avenue, SW., room 3412, Switzer Building, Washington, DC 20202-2645.

Application Forms and Instructions

Applicants are advised to reproduce and complete the application forms in this section. Applicants applying in paper copy format are required to submit an original and two copies of each application as provided in this section. However, applicants are encouraged to submit an original and seven copies of each application in order to facilitate the peer review process and minimize copying errors.

Frequent Questions

1. Can I Get an Extension of the Due Date?

No. On rare occasions the Department of Education may extend a closing date for all applicants. If that occurs, a notice of the revised due date is published in the Federal Register. However, there are no extensions or exceptions to the due date made for individual applicants.

2. What Should Be Included in the Application?

The application should include a project narrative, vitae of key personnel, and a budget, as well as the Assurances forms included in this package. Vitae of staff or consultants should include the individual's title and role in the proposed project, and other information that is specifically pertinent to this proposed project. The budgets for both the first year and all subsequent project years should be included.

If collaboration with another organization is involved in the proposed activity, the application should include assurances of participation by the other parties, including written agreements or assurances of cooperation. It is not useful to include general letters of support or endorsement in the application.

If the applicant proposes to use unique tests or other measurement instruments that are not widely known in the field, it would be helpful to include the instrument in the application.

Many applications contain voluminous appendices that are not helpful and in many cases cannot even be mailed to the reviewers. It is generally not helpful to include such things as brochures, general capability statements of collaborating organizations, maps, copies of publications, or descriptions of other projects completed by the applicant.

3. What Format Should Be Used for the Application?

NIDRR generally advises applicants that they may organize the application to follow the selection criteria that will be used. The specific review criteria vary according to the specific program, and are contained in this Consolidated Application Package.

4. May I Submit Applications to More Than One NIDRR Program Competition or More Than One Application to a Program?

Yes, you may submit applications to any program for which they are responsive to the program requirements. You may submit the same application to as many competitions as you believe appropriate. You may also submit more than one application in any given competition.

5. What Is the Allowable Indirect Cost Rate?

The limits on indirect costs vary according to the program and the type of application. An applicant for an RRTC is limited to an indirect rate of 15 percent. An applicant for Advanced Rehabilitation Research Training project is limited to a training grant indirect rate of 8 percent. An applicant for a RERC, DRRP, or Field Initiated project should limit indirect charges to the organization's approved indirect cost rate. If the organization does not have an approved indirect cost rate, the application should include an estimated actual rate.

6. Can Profitmaking Businesses Apply for Grants?

Yes. However, for-profit organizations will not be able to collect a fee or profit on the grant, and in some programs will be required to share in the costs of the project.

7. Can Individuals Apply for Grants?

No. Only organizations are eligible to apply for grants under NIDRR programs. However, individuals are the only entities eligible to apply for fellowships.

8. Can NIDRR Staff Advise Me Whether My Project Is of Interest to NIDRR or Likely To Be Funded?

No. NIDRR staff can advise you of the requirements of the program in which you propose to submit your application. However, staff cannot advise you of whether your subject area or proposed approach is likely to receive approval.

9. How Do I Assure That My Application Will Be Referred to the Most Appropriate Panel for Review?

Applicants should be sure that their applications are referred to the correct competition by clearly including the competition title and CFDA number, including alphabetical code, on the Standard Form 424, and including a project title that describes the project.

10. How Soon After Submitting My Application Can I Find Out if It Will Be Funded?

The time from closing date to grant award date varies from program to program. Generally speaking, NIDRR endeavors to have awards made within five to six months of the closing date. Unsuccessful applicants generally will be notified within that time frame as well. For the purpose of estimating a project start date, the applicant should estimate approximately six months from the closing date, but no later than following September 30.

11. Can I Call NIDRR to Find Out if My Application Is Being Funded?

No. When NIDRR is able to release information on the status of grant applications, it will notify applicants by letter. The results of the peer review cannot be released except through this formal notification.

12. If My Application Is Successful, Can I Assume I Will Get the Requested Budget Amount in Subsequent Years?

No. Funding in subsequent years is subject to availability of funds and project performance.

13. Will All Approved Applications Be Funded?

No. It often happens that the peer review panels approve for funding more applications than NIDRR can fund within available resources. Applicants who are approved but not funded are encouraged to consider submitting similar applications in future competitions.

BILLING CODE 4000-01-P

[FR Doc. 03-11981 Filed 5-13-03; 8:45 am]

BILLING CODE 4000-01-C